DEPARTMENT OF THE INTERIOR

Bureau of Land Management

[OR-958-6333-ET; GP0-0220; OR-55753]

Proposed Withdrawal and Opportunity for Public Meeting; Oregon

AGENCY: Bureau of Land Management, Interior.

ACTION: Notice.

SUMMARY: The Forest Service, U.S. Department of Agriculture, proposes to withdraw approximately 960 acres of National Forest System lands, lying within the Siskiyou National Forest, to protect the recreation, fisheries, scenic, and water quality values of the Scenic section of the North Fork Smith Wild and Scenic River. This notice closes the lands for up to 2 years from surface entry and mining. The public lands have been and will remain open to mineral leasing.

EFFECTIVE DATE: Comments and requests for a public meeting must be received by August 24, 2000.

ADDRESSES: Comments and meetings requests should be sent to the Oregon/Washington State Director, BLM, P.O. Box 2965, Portland, Oregon 97208-2965.

FOR FURTHER INFORMATION CONTACT: Charles R. Roy, BLM Oregon/Washington State Office, 503-952-6189.

SUPPLEMENTARY INFORMATION: On May 19, 2000, the Forest Service filed an application to withdraw the following described National Forest System lands from location and entry under the United States mining laws (30 U.S.C. Ch. 2 (1994)), but not the mineral leasing laws, subject to valid existing rights:

Willamette Meridian

Siskiyou National Forest

All lands lying on the right (west) bank of the river corridor, including the river bed, and extending ¼ mile from the centerline of the North Fork Smith River, from Horse Creek downstream 4.5 miles to the confluence of Baldface Creek, as described in the following:

T. 40 S., R. 11 W., unsurveyed

Sec. 15, SW¼SW¼;

Sec. 16, E½;

Sec. 21, E½E½ and NW¼SE¼;

Sec. 22, W½W½ and SE¼SW¼;

Sec. 27, W½E½, E½W½ and NW¼NW¼;

Sec. 28, NE¼NE¼;

Sec. 34, W½E½ and E½W½.

T. 41 S., R. 11 W.,

Sec. 2, W½;

Sec. 3, NE¼;

Sec. 11, N½NW¼.

AND all lands lying on the left (east) bank of the river corridor, including the river bed, and extending ¼ mile from the centerline of the North Fork Smith River as described in the following:

T. 41 S., R. 11 W.,

Sec. 2, those portions of the E½SW¼ and W½SE¼, lying outside the boundaries of the Kalmiopsis Wilderness Area;

Sec. 11, those portions of the NW¼NE¼ and NE¼NW¼, lying outside the boundaries of the Wild segment of the North Fork Smith Wild and Scenic River.

The areas described aggregate approximately 960 acres in Curry County.

The purpose of the proposed withdrawal is to protect the outstanding recreation, fisheries, scenic, and water quality values for which the North Fork Smith River was designated Wild and Scenic.

For a period of 90 days from the date of publication of this notice, all persons who wish to submit comments, suggestions, or objections in connection with the proposed withdrawal may present their views in writing to the State Director at the address indicated above.

Notice is hereby given that an opportunity for a public meeting is afforded in connection with the proposed withdrawal. All interested parties who desire a public meeting for the purpose of being heard on the proposed withdrawal must submit a written request to the State Director at the address indicated above within 90 days from the publication of this notice. Upon determination by the authorized officer that a public meeting will be held, a notice of the time and place will be published in the Federal Register at least 30 days before the scheduled date of the meeting.

The application will be processed in accordance with the regulations set forth in 43 CFR 2300.

For a period of 2 years from the date of publication of this notice in the Federal Register, the lands will be segregated as specified above unless the application is denied or canceled or the withdrawal is approved prior to that date. The temporary land uses which may be permitted during this segregative period include licenses, permits, rights-of-way, and disposal of vegetative resources other than under the mining laws.

Dated: May 19, 2000.
Robert D. Deviney, Jr.,
Chief, Branch of Realty and Records Services.

[FR Doc. 00-13170 Filed 5-24-00; 8:45 am]

BILLING CODE 4310-33-P